DEPARTMENT OF THE INTERIOR

National Park Service

[2253-665]

Notice of Inventory Completion: University of Wyoming, Anthropology Department, Human Remains Repository, Laramie, WY

AGENCY: National Park Service, Interior.

ACTION: Notice.

Notice is here given in accordance with the Native American Graves Protection and Repatriation Act (NAGPRA), 25 U.S.C. 3003, of the completion of an inventory of human remains and associated funerary objects in the possession and control of the University of Wyoming Anthropology Department, Human Remains Repository, Laramie, WY. The human remains and associated funerary objects were removed from the Upper Sunshine Reservoir area of northwest Wyoming.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by University of Wyoming, Anthropology Department, Human Remains Repository, professional staff in consultation with representatives of the Crow Tribe of Montana.

In 1973, human remains representing a minimum of two individuals were removed from a cliff ledge on private ground near the Upper Sunshine Reservoir area of northwest Wyoming by University of Wyoming personnel. The burial location had been discovered by recreational rock climbers. The remains have been at the University of Wyoming since that time (HR019 and HR020). No known individuals were identified. The 985 associated funerary objects are 944 small glass trade beads, 6 large white glass trade beads, 11 large blue glass trade beads, 4 medium blue glass trade beads, 6 dentalim shell beads, 3 brass buttons, 2 metal loops (earrings?), 1 metal bracelet, 3 shell hair pipe beads, 1carved wooden bowl, 1 lot of numerous cloth fragments representing a trade blanket, 1 lot of a trade coat in fragments with brass braid and brass buttons, 1 lot of a bison robe in fragments, and 1 lot of miscellaneous leather.

The historic associated funerary objects suggest a burial date in the early 1800s. The University of Wyoming, Anthropology Department, Human Remains Repository, determined that the human remains are Native American based on the presence of platymeric femoral morphology, toothwear patterns, the presence of shovel shaped incisors, interorbital observations, and distinctive cranial morphology. Based on craniometrics, burial location, artifacts, and hair styles, officials of the Human Remains Repository reasonably believe that these remains represent individuals related to the Crow Tribe of Montana. In addition, the Crow Tribe, based upon the burial location within the aboriginal homelands of the tribe and review of the information from the Human Remains Repository, claims a shared group identity.

Officials of the University of Wyoming, Anthropology Department, Human Remains Repository, have determined, pursuant to 25 U.S.C. 3001(9), that the human remains described above represent the physical remains of two individuals of Native American ancestry. Officials of the University of Wyoming, Anthropology Department, Human Remains Repository, have also determined, pursuant to 25 U.S.C. 3001(3)(A), that the 985 objects described above are reasonably believed to have been placed with or near individual human remains at the time of death or later as part of a death rite or ceremony. Lastly, officials of the University of Wyoming, Anthropology Department, Human Remains Repository, have determined, pursuant to 25 U.S.C. 3001(2), that there is a relationship of shared group identity that can be reasonably traced between the Native American human remains and associated funerary objects and the Crow Tribe of Montana.

Representatives of any other Indian tribe that believes itself to be culturally affiliated with the human remains and associated funerary objects should contact Rick L. Weathermon, NAGPRA Contact at the University of Wyoming, Department 3431, Anthropology, 1000 E. University Ave., Laramie, WY 82071, telephone (307) 766-5136, before April 14, 2011. Repatriation of the human remains and associated funerary objects to the Crow Tribe of Montana may proceed after that date if no additional claimants come forward.

The University of Wyoming Anthropology Department, Human Remains Repository, is responsible for notifying the Crow Tribe of Montana that this notice has been published.

Dated: March 9, 2011.
Sherry Hutt,
Manager, National NAGPRA Program.

[FR Doc. 2011-5865 Filed 3-14-11; 8:45 am]

BILLING CODE 4312-50-P